DEPARTMENT OF TRANSPORTATION

Federal Transit Administration

Supplemental Draft Environmental Impact Statement for the Central Florida Light Rail Transit System Project in Orlando, Florida Metropolitan Area

AGENCY: Federal Transit Administration (FTA), Department of Transportation (DOT).

ACTION: Notice of intent to prepare a Supplemental Draft Environmental Impact Statement (SDEIS).

SUMMARY: The Federal Transit Administration (FTA) as lead agency in cooperation with the Federal Highway Administration (FHWA), and the Central Florida Regional Transportation Authority (CFRTA, locally known as LYNX), in conjunction with METROPLAN ORLANDO, and the Florida Department of Transportation (FDOT) intend to conduct scoping meetings and prepare a Supplemental Draft Environmental Impact Statement (SDEIS) in accordance with the National Environmental Policy Act (NEPA) for the proposed Central Florida Light Rail Transit System Project in Orange and Seminole Counties, Florida. Scoping activities will solicit input into the range of alternatives and social, economic, or environmental impacts to be evaluated in the SDEIS.

This Notice of Intent is being published at this time to notify interested parties and invite participation in the study due to the changes in the light rail transit alignment (including line, station locations and support facilities) that have occurred since the initial Notice of Intent (October 8, 1996), publication of the Central Florida Light Rail Transit System North/South Corridor Project DEIS (1997), and publication of the Central Florida Light Rail Transit System North/South Corridor Project FEIS as supplemented (1999). The new alignment is located generally within or adjacent to the Interstate 4 right-of-way and along the planned Kirkman Road extension (see Study Area below).

The following alternatives will be evaluated in the SDEIS: (1) A baseline alternative consisting of measures to implement more efficient management of the current transit infrastructure, with an emphasis on operating improvements, in addition to those projects listed in the Long Range Cost Feasible Plan and/or the Transportation Improvement Plan, and (2) the locally preferred light rail transit alignment (including line, station locations and support facilities).

Scoping will be accomplished through correspondence with interested persons, organizations, and Federal, State and local agencies, and through public meetings.

DATES: Scoping Meetings: A series of public meetings will be held to receive comments on the scoping document for the project, including the following dates, locations and times:

July 9, 2002 4 p.m.-7 p.m., Altamonte Springs City Council Chambers, 225 Newburyport Ave., Altamonte Springs, FL 32701.

July 10, 2002 4 p.m.-7 p.m., Rosen Centre Hotel, 9840 International Drive, Orlando, FL 32819.

July 11, 2002 4 p.m.-7 p.m., Orlando City Council Chambers (2nd Floor), 400 S. Orange Avenue, Orlando, FL 32802.

July 16, 2002 4 p.m.-7 p.m., Maitland City Council Chambers, 1776 Independence Lane, Maitland, FL 32751.

July 17, 2002 4 p.m.-7 p.m., Orange County Public Works Building, 4200 South John Young Parkway, Orlando, FL 32839.

All meeting locations are accessible to persons with disabilities. In accordance with the Americans With Disabilities Act of 1990, persons needing a special accommodation at this meeting because of a disability or physical impairment should contact Ron Jones at LYNX, (407) 841-2279, at least 48 hours before the meeting. If hearing impaired, contact LYNX at (407) 423-0787(TDD).

Comment Due Date: Written comments on the scope of alternatives and impacts to be considered should be sent to Tony Walter at LYNX, 445 West Amelia Street, Suite 800, Orlando, Florida, 32801 by August 1, 2002.

FOR FURTHER INFORMATION CONTACT: Tony Walter, Project Manager for LYNX, (407) 841-2279, EXT. 3007. You may also contact Mr. Derek Scott, Community Planner, Federal Transit Administration, Region IV, 61 Forsyth Street, SW, Suite 17T50, Atlanta, Georgia 30303. Telephone: (404) 562-3500.

SUPPLEMENTARY INFORMATION:

1. Notice of Intent

This Notice of Intent to prepare a Supplemental DEIS is being published at this time to notice interested parties due to the changes that have occurred since the initial Notice of Intent (October 8, 1996), publication of the Central Florida Light Rail Transit System North/South Corridor Project DEIS (1997), and publication of the Central Florida Light Rail Transit System North/South Corridor Project FEIS as supplemented (1999). The Central Florida Light Rail Transit System Project is re-examining light rail transit alignment alternatives within the study area (see Study Area below). FTA regulations and guidance will be used for the analysis and preparation of the Central Florida Light Rail Transit System Project SDEIS.

I. Scoping

The FTA, LYNX, METROPLAN ORLANDO, and FDOT invite written comments for a period of 45 days after publication of this notice (see DATES above). During scoping, comments should focus on identifying specific social, economic, or environmental impacts to be evaluated. Comments should focus on the scope of alternatives and impacts to be considered, and not on a preference for a particular alternative. Individual preference for a particular alternative should be communicated during the comment period for the Supplemental DEIS, subsequent to the completion of the scoping document.

Persons who wish to receive information prior to a scoping meeting, or to be placed on the mailing list to receive further information as the project continues may contact Tony Walter at LYNX, 445 West Amelia Street, Suite 800, Orlando, Florida, 32801.

II. Study Area and Transportation Need

The proposed project consists of an approximately 20 mile total light rail transit system, linking the Central Parkway in Altamonte Springs to the north, through Downtown Orlando and central Orange County, to the proposed Canadian Court Intermodal Center in the south. The locally preferred light rail transit alignment, as adopted by the METROPLAN ORLANDO Board in May 2002, extends from Central Parkway in Altamonte Springs and crosses over I-4 from Altamonte Springs to Maitland. South of Maitland Center, it crosses over to the east side of I-4 at Fairbanks Avenue, south along Dade Avenue at-grade, on King Street and easterly on Sanitarium Road, south over CSX and Princeton Street. The alignment is at-grade along a reconstructed Alden Road to Orange Avenue to the Regional Intermodal Center (RIC) on Amelia Street.

The alignment from the RIC through Downtown Orlando is still under study. Option 1 extends to the west of Downtown Orlando and Option 2 extends south along Garland Avenue. Once the alignment leaves Downtown Orlando, it extends west in the median of I-4 and extends directly to Universal Studios, or extends directly south on Kirkman Road, over Sand Lake Road along the planned Kirkman Road extension, west to the proposed Canadian Court Intermodal Center.

Possible additional extensions along International Drive, to Sea World, and to Orlando International Airport will be considered.

Transportation improvements within the North/South corridor are needed to accommodate excess travel demand resulting from current and projected growth in population and employment. This light rail transit alignment provides the opportunity to connect the following proposed intermodal stations: the Altamonte Springs Intermodal Center, the Maitland Intermodal Center, the Regional Intermodal Center (RIC) in Downtown Orlando, the Belz Intermodal Center, and the Canadian Court Intermodal Center, at a minimum.

III. Alternatives

The alternatives proposed for evaluation include:

(1) A baseline alternative consisting of measures to implement more efficient management of the current transit infrastructure, with an emphasis on operating improvements, in addition to those projects listed in the Long Range Cost Feasible Plan and/or the Transportation Improvement Plan, and

(2) The locally preferred light rail transit alignment (including line, station locations and support facilities).

IV. Probable Effects

FTA, LYNX, METROPLAN ORLANDO and FDOT will evaluate the project's potential for significant adverse impacts during both construction and operation, and to identify feasible mitigation measures for those impacts. The specific analyses to be included are land use, neighborhood character, and social conditions, economic conditions and displacement, visual and aesthetic considerations, historic resources, archaeological resources, transit (ridership, operations and maintenance), traffic, parking, air quality, noise and vibration, energy, hazardous materials, water quality, natural resources (vegetation and wildlife), construction and construction impacts, cumulative impacts, and environmental justice (disproportionate adverse impacts on minority and low-income populations). Additional potential effects will be solicited during scoping activities and considered for inclusion in the SDEIS.

Issued on: June 20, 2002.
Jerry Franklin,
Regional Administrator.

[FR Doc. 02-16131 Filed 6-25-02; 8:45 am]

BILLING CODE 4910-57-P